DEPARTMENT OF ENERGY

Federal Energy Regulatory Commission

[Docket No. CP04-346-000]

CenterPoint Energy—Mississippi River Transmission Corporation; Notice of Request Under Blanket Authorization

June 10, 2004.

Take notice that on June 1, 2004, and supplemented on June 4, 2004, CenterPoint Energy—Mississippi River Transmission Corporation (MRT), P.O. Box 21734, Shreveport, LA 71151-1734, filed in Docket No. CP04-346-000 a request pursuant to its blanket certificate issued September 29, 1982 under Docket No. CP82-489-000 for authority under Sections 157.208 and 157.211 of the Commission's Regulations (18 CFR 157.208 and 157.211) to construct and operate certain pipeline facilities in Madison and St. Clair Counties, Illinois.

MRT's existing customer, Union Electric Company—AmerenUE (AmerenUE), has advised MRT that it is installing two additional natural gas turbines for electric generation at its Venice Power Plant in Venice Illinois. AmerenUE has requested MRT to provide firm transportation service to serve the expanded plant. MRT's existing lateral line that serves the Venice Power Plant, Line A-122, is a low-pressure line that is not capable of delivering the additional requested volumes. MRT proposes to construct, own and operate a new delivery lateral (Line A-334); a new measurement station; and a new compressor station (the horseshoe Lake Compressor Station). The new Line A-334 will consist of approximately 3.6 miles of 20-inch pipe and allow deliveries up to 134,000 Dth per day. MRT's total construction costs are estimated at $18,016,755. The application is on file with the Commission and open to public inspection.

Any questions regarding this application should be directed to Lawrence O. Thomas, Director-Rates & Regulatory, CenterPoint Energy—Mississippi River Transmission Corporation, P.O. Box 21734, Shreveport, Louisiana 71101, at (318) 429-2804.

This filing is available for review at the Commission or may be viewed on the Commission's Web site at http://www.ferc.gov using the “eLibrary” link. Enter the docket number excluding the last three digits in the docket number field to access the document. For assistance, please contact FERC Online Support at FERCOnlineSupport@ferc.gov or call toll-free at (866) 208-3676, or for TTY, contact (202) 502-8659. Protests, comments and interventions may be filed electronically via the Internet in lieu of paper; see, 18 CFR 385.2001(a)(1)(iii) and the instructions on the Commission's Web site under the “e-Filing” link. The Commission strongly encourages interveners to file electronically.

Any person or the Commission's staff may, within 45 days after issuance of the instant notice by the Commission, file pursuant to Rule 214 of the Commission's Procedural Rules (18 CFR 385.214) a motion to intervene or notice of intervention and pursuant to Section 157.205 of the Regulations under the Natural Gas Act (18 CFR 157.205) a protest to the request. If no protest is filed within the time allowed therefore, the proposed activity shall be deemed to be authorized effective the day after the time allowed for filing a protest. If a protest is filed and not withdrawn within 30 days after the time allowed for filing a protest, the instant request shall be treated as an application for authorization pursuant to Section 7 of the Natural Gas Act.

Linda Mitry,
Acting Secretary.

[FR Doc. E4-1349 Filed 6-17-04; 8:45 a.m.]

BILLING CODE 6717-01-P